OFFICE OF THE UNITED STATES TRADE REPRESENTATIVE

Determination Regarding Waiver of Discriminatory Purchasing Requirements With Respects to Goods and Services Covered by Chapter Thirteen of the USMCA

AGENCY: Office of the United States Trade Representative.

ACTION: Notice.

DATES: Applicable as of July 1, 2020.

FOR FURTHER INFORMATION CONTACT: Kate Psillos, International Procurement Negotiator, Kathryn.W.Psillos@ustr.eop.gov or 202-395-9581, or J. Daniel Stirk, Senior Associate General Counsel, John_Stirk@ustr.eop.gov or 202-395-3150.

SUPPLEMENTARY INFORMATION: On June 12, 2017 (82 FR 23699), the President announced his intention to commence negotiations with Canada and Mexico to modernize the North American Free Trade Agreement (NAFTA). On November 30, 2018, the Governments of the United States, Mexico, and Canada (the Parties) signed the protocol replacing NAFTA with the United States-Mexico-Canada Agreement (USMCA). On December 10, 2019, the Parties signed the protocol of amendment to the USMCA. On January 29, 2020, the President signed into law the United States-Mexico-Canada Agreement Implementation Act (Pub. L. 116-113), through which Congress approved the USMCA. On July 1, 2020, the USMCA will enter in force.

Chapter 13 of the USMCA sets forth certain obligations between the United States and Mexico with respect to government procurement of goods and services, as specified in Annex 13-A of the USMCA. Chapter 13 of the USMCA applies only between Mexico and the United States and does not cover Canada.

Section 1-201 of Executive Order 12260 of December 31, 1980 (46 FR 1653) delegates the functions of the President under Sections 301 and 302 of the Trade Agreements Act of 1979 (Trade Agreements Act) (19 U.S.C. 2511-2512) to the U.S. Trade Representative.

In conformity with Sections 301 and 302 of the Trade Agreements Act and Executive Order 12260, and in order to carry out U.S. obligations under Chapter 13 of the USMCA, the U.S. Trade Representative has determined that:

1. Mexico is a country that has become a party to the USMCA and will provide appropriate reciprocal competitive government procurement opportunities to United States products and suppliers of such products. In accordance with Section 301(b)(1) of the Trade Agreements Act, Mexico is so designated for purposes of Section 301(a) of the Trade Agreements Act.

2. With respect to eligible products of Mexico (i.e., goods and services covered by the Schedule of the United States in Annex 13-A of the USMCA) and suppliers of such products, the application of any law, regulation, procedure, or practice regarding government procurement that would, if applied to such products and suppliers, result in treatment less favorable than accorded:

a. To United States products and suppliers of such products; or

b. To eligible products of another foreign country or instrumentality which is a party to the Agreement on Government Procurement referred to in section 101(d)(17) of the Uruguay Round Agreements Act (19 U.S.C. 3511(d)(17)) and suppliers of such products, shall be waived.

With respect to Mexico, this waiver shall be applied by all entities listed in the Schedule of the United States in Annex 13-A of USMCA.

3. The designation in paragraph 1 and the waiver in paragraph 2 are subject to modification or withdrawal by the U.S. Trade Representative.

Daniel Watson,
Acting Assistant U.S. Trade Representative for Western Hemisphere, Office of the United States Trade Representative.

[FR Doc. 2020-13864 Filed 6-26-20; 8:45 am]

BILLING CODE 3290-F00-P